DEPARTMENT OF THE INTERIOR

National Park Service

[NPS-WASO-CONC-30740; PPWOBSADC0, PPMVSCS1Y.Y00000]

Notice of Intent to Extend Concession Contracts and Award Temporary Concession Contracts

AGENCY: National Park Service, Interior.

ACTION: Public Notice.

SUMMARY: The National Park Service gives public notice that it proposes to extend each concession contract listed in the Table 1 below until the date shown in the “Extension Expiration Date” column or until the effective date of a new contract, whichever comes first. The National Park Service also gives public notice that it proposes to award the temporary concession contracts listed in Table 2 below.

DATES: The National Park Service intends that the concession contract extensions and temporary concession contracts will be effective on the dates shown in the “Extension Effective Date” and “Effective Date” columns, respectively.

FOR FURTHER INFORMATION CONTACT: Kurt Rausch, Program Chief, Commercial Services Program, National Park Service, 1849 C Street, NW, Mail Stop 2410, Washington, DC 20240; Telephone: 202-513-7156.

SUPPLEMENTARY INFORMATION: The concession contracts listed in Table 1 below will expire by their terms on or before October 31, 2021. Under 36 CFR 51.23 the National Park Service proposes to extend each contract until the date shown in the “Extension Expiration Date” column or until the effective date of a new contract, whichever comes first. The National Park Service has determined that the proposed extensions are necessary to avoid an interruption of visitor services and has taken all reasonable and appropriate steps to consider alternatives to avoid such an interruption. The extension of the existing contracts does not confer or affect any rights with respect to the award of new concession contracts.

Under 36 CFR 51.24(a) the National Park Service proposes to award a temporary concession contract, for a term not to exceed three years, to a qualified person to provide the visitor services currently provided under each contract listed in Table 2 below. The National Park Service has determined that the proposed award of a temporary contract is necessary to avoid an interruption of visitor services and has taken all reasonable and appropriate steps to consider alternatives to avoid such an interruption. The National Park Service intends that the temporary contract will be effective on the dates shown in the “Effective Date” column below. This notice is not a request for proposals.

The publication of this notice reflects the intent of the National Park Service but does not bind the National Park Service to extend or award any of the contracts listed in the tables below.

Table 1—Concession Contracts Extended Until the Date Shown or Until the Effective Date of a New Contract, Whichever Comes First
Park unit | CONCID | Concessioner | Extension effective date | Extension expiration date
Acadia NP | ACAD014-09 | Carriages of Acadia, Inc | 1/1/2021 | 12/31/2021
Badlands NP | BADL001-09 | Badlands Lodge, LLC | 1/1/2021 | 12/31/2021
Bryce Canyon NP | BRCA003-10 | The Lodge at Bryce Canyon, LLC | 1/1/2021 | 12/31/2021
Channel Islands NP | CHIS001-11 | The Island Packers Corporation | 1/1/2022 | 12/31/2022
Death Valley NP | DEVA002-11 | NEG282, LLC | 1/13/2021 | 1/12/2022
Dry Tortugas NP | DRTO001-08 | Yankee Freedom III, LLC | 11/1/2021 | 10/31/2022
Everglades NP | EVER005-10 | Florida National Parks and Monuments Assoc | 9/1/2021 | 8/31/2022
Fire Island NS | FIIS003-09 | Sayville Ferry Service, Inc | 11/1/2020 | 10/31/2021
Fire Island NS | FIIS004-11 | Davis Park Ferry Co., Inc | 11/1/2020 | 10/31/2021
Fort McHenry NM&HS | FOMC001-10 | Evelyn Hill Corporation | 12/1/2020 | 11/30/2021
Glacier Bay NP&P | GLBA038-16 | Lindblad's Special Expeditions, Inc | 1/1/2021 | 12/31/2022
Glacier Bay NP&P | GLBA041-16 | Alaskan Catamaran LLC | 1/1/2021 | 12/31/2022
Glacier Bay NP&P | GLBA042-16 | Inner Sea Discoveries, LLC | 1/1/2021 | 12/31/2022
Glacier Bay NP&P | GLBA043-16 | American Cruise Lines | 1/1/2021 | 12/31/2022
Golden Gate NRA | GOGA002-09 | American Youth Hostels, Inc | 5/1/2021 | 4/30/2022
Grand Canyon NP | GRCA004-10 | Mangum Enterprises, Inc | 1/1/2021 | 12/31/2021
Great Smoky Mtns NP | GRSM002-09 | LeConte Lodge Limited Partnership | 1/1/2021 | 12/31/2021
Great Smoky Mtns NP | GRSM003-10 | Tammy Monhollen | 1/1/2021 | 12/31/2021
Great Smoky Mtns NP | GRSM010-10 | Great Smoky Mountains Association | 1/1/2021 | 12/31/2021
Muir Woods NM | MUWO001-09 | Cloudless Skies Parks Company, LLC | 10/1/2020 | 9/30/2021
Olympic NP | OLYM003-10 | Aramark Sports & Entertainment Services LLC | 2/1/2021 | 1/31/2022
Ozark NSR | OZAR001-10 | Alley Spring Canoe Rental, LLC | 1/1/2021 | 12/31/2021
Ozark NSR | OZAR018-10 | Two Rivers Canoes, LLC | 1/1/2021 | 12/31/2021
Point Reyes NS | PORE003-11 | American Youth Hostels, Inc | 10/17/2021 | 10/16/2022
Prince William Forest P | PRWI001-08 | Recreational Adventures Campground, LLC | 1/1/2021 | 12/31/2021
Southeast Region | SERO001-09 | America's National Parks, Inc | 1/1/2021 | 12/31/2021
Statue of Liberty NM | STLI004-09 | Evelyn Hill Corporation | 11/1/2021 | 10/31/2022
Voyageurs NP | VOYA002-11 | Oveson Kab-Con, Inc | 1/1/2021 | 12/31/2021
Yellowstone NP | YELL004-08 | Yellowstone Park Service Stations, Inc | 11/1/2020 | 10/31/2021
Yosemite NP | YOSE001-10 | Best's Studio, Inc | 3/1/2021 | 2/28/2022
Zion NP | ZION003-09 | Xanterra Parks & Resorts, Inc | 1/1/2021 | 12/31/2021

Table 2—Temporary Concession Contracts
Park Unit | CONCID | Services | Effective date
Big Bend NP | BIBE002-08 | Lodging, Food and Beverage, Retail, RV Park, Service Stations, and Other Services | 7/1/2021
Buck Island Reef NM | BUIS015-07 | Interpretive Boat Tours, Guided Snorkeling and Guided Scuba Diving | 12/3/2020
Grand Canyon NP | GRCA002-08 | Lodging, Food and Beverage, Retail, Service Station, and Other Services | 1/1/2021
Great Smoky Mtns NP | GRSM006-07 | Guided Horseback Rides and Vending | 12/1/2020
Statue of Liberty NM | STLI001-07 | Ferry Service | 3/29/2021

Justin Unger,
Associate Director, Business Services.

[FR Doc. 2020-28568 Filed 12-23-20; 8:45 am]

BILLING CODE 4312-53-P